ENVIRONMENTAL PROTECTION AGENCY

[ER-FRL-9054-8]

Environmental Impact Statements; Notice of Availability

Responsible Agency: Office of Federal Activities, General Information 202-564-5632 or https://www.epa.gov/nepa.

Weekly receipt of Environmental Impact Statements (EIS)

Filed January 4, 2021 10 a.m. EST Through January 11, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210001, Draft, USMC, USAF, AZ, LEGISLATIVE—Reauthorization of the Barry M. Goldwater Range Land Withdrawal and Proposed Gila Bend Addition Land Withdrawal, Comment Period Ends: 03/01/2021, Contact: Jon Haliscak 210-395-0615.

EIS No. 20210002, Draft, BOEM, AK, Cook Inlet Planning Area Oil and Gas Lease Sale 258, Comment Period Ends: 03/01/2021, Contact: Amee Howard 907-334-5200.

EIS No. 20210003, Draft, BLM, CA, Desert Plan Amendment Draft Land Use Plan Amendment and Draft Environmental Impact Statement, Comment Period Ends: 04/15/2021, Contact: Jeremiah Karuzas 916-978-4644.

EIS No. 20210004, Draft, BLM, NV, Relief Canyon Mine Expansion Project, Comment Period Ends: 03/01/2021, Contact: Jeanette Black 775-623-1500.

EIS No. 20210005, Final, USFS, AZ, Resolution Copper Project and Land Exchange, Review Period Ends: 03/01/2021, Contact: Mary Rasmussen 602-225-5200.

Amended Notice

EIS No. 20200236, Final Supplement, USACE, AL, Allatoona Lake Water Supply Storage Reallocation Study and Updates to Weiss and Logan Martin Reservoirs Project Water Control Manuals, Alabama and Georgia (or Allatoona-Coosa Reallocation Study), Review Period Ends: 01/25/2021, Contact: Mr. Mike Malsom 251-690-2023. Revision to FR Notice Published 12/11/2020; Extending the Review Period from 01/11/2021 to 01/25/2021.

Dated: January 11, 2021.
Cindy S. Barger,
Director, NEPA Compliance Division, Office of Federal Activities.

[FR Doc. 2021-00843 Filed 1-14-21; 8:45 am]

BILLING CODE 6560-50-P